DEPARTMENT OF THE INTERIOR

Fish and Wildlife Service

[FWS-R4-R-2009-N165; 40136-1265-0000-S3]

Tampa Bay Refuges, FL

AGENCY: Fish and Wildlife Service, Interior.

ACTION: Notice of availability: final comprehensive conservation plan and finding of no significant impact.

SUMMARY: We, the U.S. Fish and Wildlife Service (Service), announce the availability of our final comprehensive conservation plan (CCP) and finding of no significant impact (FONSI) for the environmental assessment for Egmont Key, Pinellas, and Passage Key National Wildlife Refuges. These three refuges, known as the Tampa Bay Refuges, are managed as part of the Chassahowitzka National Wildlife Refuge (NWR) Complex. In the final CCP, we describe how we will manage these refuges for the next 15 years.

ADDRESSES: You may obtain a copy of the CCP by writing to: Mr. Michael Lusk, Refuge Manager, 1502 S.E. Kings Bay Drive, Crystal River, FL 34429. You may also access and download the document from the Service's Web site: http://southeast.fws.gov/planning.

FOR FURTHER INFORMATION CONTACT: Mr. Michael Lusk; telephone: 727/570-5417; e-mail: michael_lusk@fws.gov.

SUPPLEMENTARY INFORMATION:

Introduction

With this notice, we finalize the CCP process for the Tampa Bay Refuges. We started this process through a notice in the Federal Register on December 3, 2004 (69 FR 70276). For more about the process, please see that notice.

Egmont Key NWR includes 392 acres and was established in 1974 to protect the Key's significant natural, historical, and cultural resources from the impending threats of development. Of the three Tampa Bay Refuges, it is the only refuge island open to the public and has been traditionally visited for many years as a primary recreation destination. Egmont Key NWR seeks to provide nesting habitat for brown pelicans and other waterbirds, as well as to conserve and protect barrier island habitat and to preserve historical structures of national significance (i.e., historic lighthouse, guardhouse, gun batteries, and brick roads). Presently, the island's approximately 244 acres of beach and coastal berm support more than 110 species of nesting, migrating, and wintering birds. The island is designated as critical habitat for endangered piping plovers and provides habitat and protection for endangered manatees and sea turtles. Egmont Key NWR has an unusually high population of gopher tortoises and box turtles. Two wildlife sanctuaries, one on the east side of the island and one at the south end of the island, comprise about 97 acres and are closed to public use. Cooperative management agreements between the Service, the U.S. Coast Guard, and the Florida Department of Environmental Protection entrust daily management activities of Egmont Key NWR to the Florida Park Service, which manages the island to protect and restore the historic structures and for swimming, sunbathing, shelling, and picnicking.

Pinellas NWR was established in 1951 as a breeding ground for colonial bird species. It contains 7 mangrove islands encompassing about 394 acres. The refuge is comprised of Little Bird, Mule, Jackass, Listen, and Whale Island Keys and leases Tarpon and Indian Keys from Pinellas County. A Pinellas County seagrass sanctuary is located around Tarpon and Indian Keys, and the use of internal combustion engines within this zone is prohibited to protect the seagrass beds. Hundreds of brown pelicans and double-crested cormorants and dozens of herons, egrets, and roseate spoonbills nest within Tarpon and Little Bird Keys. Pinellas NWR provides important mangrove habitat for most long-legged wading species, especially the reddish egret. All of the mangrove islands of Pinellas NWR are closed to all public use year-round to protect the migratory birds.

Passage Key NWR was originally designated as a Federal bird reservation by President Roosevelt in 1905, when it consisted of a 60-acre island with a freshwater lake and lush vegetation. However, erosion and hurricanes have virtually destroyed the key, and it is now a meandering sand bar varying in size from 0.5 to 10 acres, depending on weather. In 1970, Passage Key NWR was designated a Wilderness Area. The refuge's objective is to provide habitat for colonial waterbirds. Hundreds of brown pelicans, laughing gulls, black skimmers, and royal terns, and small numbers of herons and egrets, nested annually until the island was destroyed by a hurricane in 2005. The key once hosted the largest royal tern and sandwich tern nesting colonies in the State of Florida. Because of its fragility, small size, and to protect the migratory birds that use the island, it is now closed to all public use year-round.

We announce our decision and the availability of the final CCP and FONSI for the Tampa Bay Refuges in accordance with the National Environmental Policy Act (NEPA) [40 CFR 1506.6(b)] requirements. We completed a thorough analysis of impacts on the human environment, which we included in the Draft Comprehensive Conservation Plan and Environmental Assessment (Draft CCP/EA). The CCP will guide us in managing and administering the Tampa Bay Refuges for the next 15 years. Alternative B is the foundation for the CCP.

The compatibility determinations for beach uses, bicycling, boating, camping, competitive sporting events, concessions, geocaching, hiking/walking, military uses, mosquito management, picnicking, photography/video/filming/audio recording, research and surveys, snorkeling and SCUBA diving, and wildlife observation and photography are available in the CCP.

Background

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Copies of the Draft CCP/EA for the Tampa Bay Refuges were made available for a 30-day public review and comment period as announced in the Federal Register on April 24, 2009 (74 FR 18744). We held two meetings to present the Draft CCP/EA to the public and to solicit comments. Approximately 57 persons attended the two meetings. A total of 23 comment letters was received by mail or e-mail from 12 persons and 8 organizations. All comments were considered and thoroughly evaluated. Responses to the comments are contained in Appendix D of the CCP.

Selected Alternative

After considering the comments we received and based on the professional judgment of the planning team, we selected Alternative B for implementation. Under Alternative B, we will continue the cooperative agreement with the State to manage Egmont Key NWR and will establish monthly communications and quarterly meetings to better coordinate our efforts. A visitors center will be established at the Egmont Key NWR Guardhouse, and interpretive signs and information distribution will be increased. Our primary mission will continue to be providing habitat and protection for wildlife. We will assume more of a leadership role in coordinating, directing, and conducting bird and other wildlife surveys; monitoring and conducting research on gopher tortoises; and identifying, mapping, and protecting State-listed plant species with partners.

Authority

This notice is published under the authority of the National Wildlife Refuge System Improvement Act of 1997, Public Law 105-57.

Dated: August 24, 2009.
Patrick Leonard,
Acting Regional Director.

Editorial Note: This document was received in the Office of the Federal Register on June 16, 2010.

[FR Doc. 2010-14876 Filed 6-18-10; 8:45 am]

BILLING CODE 4310-55-P